DEPARTMENT OF COMMERCE

National Oceanic and Atmospheric Administration

50 CFR Part 622

[Docket No. 100812345-2142-03]

RIN 0648-XS012

Snapper-Grouper Fishery of the South Atlantic; 2019 Recreational Accountability Measure and Closure for South Atlantic Red Grouper

AGENCY: National Marine Fisheries Service (NMFS), National Oceanic and Atmospheric Administration (NOAA), Commerce.

ACTION: Temporary rule; closure.

SUMMARY: NMFS implements accountability measures (AMs) for the red grouper recreational sector in the exclusive economic zone (EEZ) of the South Atlantic for the 2019 fishing year through this temporary rule. NMFS estimates recreational landings of red grouper in 2019 have exceeded the recreational annual catch limit (ACL). Therefore, NMFS closes the red grouper recreational sector in the South Atlantic EEZ at 12:01 a.m., local time, on September 25, 2019, for the remainder of the 2019 fishing year. This closure is necessary to protect the red grouper resource.

DATES: This rule is effective 12:01 a.m., local time, September 25, 2019, until 12:01 a.m., local time, January 1, 2020.

FOR FURTHER INFORMATION CONTACT: Mary Vara, NMFS Southeast Regional Office, telephone: 727-824-5305, email: mary.vara@noaa.gov.

SUPPLEMENTARY INFORMATION: The snapper-grouper fishery of the South Atlantic includes red grouper and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

In August of 2018, as a result of the determination that red grouper was undergoing overfishing, the final rule for Abbreviated Framework Amendment 1 to the FMP (83 FR 35435; July 26, 2018) reduced the red grouper ACL to 84,000 lb (38,102 kg), round weight, for 2019 (§ 622.193(d)(2)(ii)). In accordance with regulations at 50 CFR 622.193(d)(2)(i), if recreational landings of red grouper are projected to reach the recreational ACL, the Assistant Administrator for NOAA Fisheries (AA) will file a notification with the Office of the Federal Register to close the recreational sector for the remainder of the fishing year regardless if the stock is overfished, unless NMFS determines that no closure is necessary based on the best scientific information available. The NMFS Southeast Fisheries Science Center has estimated that the red grouper recreational ACL for 2019 has been exceeded. Therefore, this temporary rule implements the AM to close the red grouper recreational sector for the remainder of the 2019 fishing year. The recreational sector for red grouper in the South Atlantic EEZ will be closed effective 12:01 a.m., local time September 25, 2019, through December 31, 2019. During the recreational closure, the bag and possession limits for red grouper in or from the South Atlantic EEZ are zero.

NMFS notes that while the 2020 fishing year begins on January 1, the commercial and recreational harvest of red grouper is prohibited annually from January through April of each year (§ 622.183(b)(1)). Therefore, the recreational sector for red grouper will reopen on May 1, 2020, the beginning of the recreational fishing season. The recreational ACL for 2020 and subsequent fishing years is 90,720 lb (41,150 kg), round weight (§ 622.193(d)(2)(ii)).

Classification

The Regional Administrator for the NMFS Southeast Region has determined this temporary rule is necessary for the conservation and management of South Atlantic red grouper and is consistent with the FMP, the Magnuson-Stevens Act, and other applicable laws.

This action is taken under 50 CFR 622.193(d)(2)(i) and is exempt from review under Executive Order 12866.

These measures are exempt from the procedures of the Regulatory Flexibility Act because the temporary rule is issued without opportunity for prior notice and comment.

This action responds to the best scientific information available. The AA finds that the need to immediately implement this action to close the recreational sector for red grouper constitutes good cause to waive the requirements to provide prior notice and opportunity for public comment on this temporary rule pursuant to 5 U.S.C. 553(b)(B), because such procedures are unnecessary and contrary to the public interest. Such procedures are unnecessary because the AM implementing the recreational closure has already been subject to notice and comment. All that remains is to notify the public of the recreational closure for red grouper for the remainder of the 2019 fishing year. Prior notice and opportunity for comment are contrary to the public interest because of the need to immediately implement this action to protect the red grouper resource. Time required for notice and public comment would allow for continued recreational harvest and further exceedance of the recreational ACL.

For the aforementioned reasons, the AA also finds good cause to waive the 30-day delay in the effectiveness of this action under 5 U.S.C. 553(d)(3).

Authority: 16 U.S.C. 1801 et seq.

Dated: September 20, 2019.
Jennifer M. Wallace,
Acting Director, Office of Sustainable Fisheries, National Marine Fisheries Service.

[FR Doc. 2019-20779 Filed 9-20-19; 4:15 pm]

BILLING CODE 3510-22-P